DEPARTMENT OF ENERGY

Federal Energy Regulatory Commission

[Docket No. EL07-87-000]

Xcel Energy Services Inc., Complainant v. Southwest Power Pool, Inc. and John Deere Wind Energy, Respondents; Notice of Complaint

August 16, 2007.

Take notice that on August 15, 2007, pursuant to Rule 206 of the Rules of Practice and Procedure, 18 CFR 385.206 (2006) and sections 206 and 306 of the Federal Power Act, 16 U.S.C. 824d and 824e, Xcel Energy Services Inc. (complainant), on behalf of itself and Southwestern Public Service Company (SPS), filed a formal complaint against Southwest Power Pool, Inc. (SPP) and John Deere Wind Energy (J.D. Wind), alleging that SPP has repeatedly continued to treat the J.D. Wind's assets as registered to the SPS in the energy imbalance service market, despite SPS' objections and the Federal Energy Regulatory Commission's March 22, 2007 Order, Xcel Energy Services, Inc. v. Southwest Power Pool, Inc., 118 FERC ¶ 61,232 (2207).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 5, 2007.

Kimberly D. Bose,
Secretary.

[FR Doc. E7-16535 Filed 8-21-07; 8:45 am]

BILLING CODE 6717-01-P